ENVIRONMENTAL PROTECTION AGENCY

[FRL-6842-6]

Inadequacy Status of the Portneuf Valley, Pocatello, ID; Submitted Particulate Matter (PM10) Air Quality Improvement Plan for Transportation Conformity Purposes

AGENCY: Environmental Protection Agency (EPA).

ACTION: Notice of inadequacy.

SUMMARY: In this document, EPA is notifying the public that we have found that the motor vehicle emissions budget for PM10 in the Portneuf Valley, Pocatello, Idaho submitted PM10 Air Quality Improvement Plan is inadequate for conformity purposes. On March 2, 1999, the D.C. Circuit Court ruled that submitted SIPs cannot be used for conformity determinations until EPA has affirmatively found them adequate. As a result of our finding, Portneuf Valley cannot use the motor vehicle emissions budget from the submitted PM-10 Air Quality Improvement Plan for future conformity determinations.

DATES: This finding is effective August 14, 2000.

FOR FURTHER INFORMATION CONTACT: The finding and the response to comments will be available at EPA's conformity website: http://www.epa.gov/oms/traq, (once there, click on the “Conformity” button, then look for “Adequacy Review of SIP Submissions for Conformity”). You may also contact Wayne Elson, U.S. EPA, Region 10 (OAQ-107), 1200 Sixth Ave, Seattle WA 98101; (206) 553-1463 or elson.wayne@epa.gov.

SUPPLEMENTARY INFORMATION:

Background

Today's document is simply an announcement of a finding that we have already made. EPA Region 10 sent a letter to Idaho Division of Environmental Quality on June 8, 2000 stating that the motor vehicle emissions budget in the Portneuf Valley submitted Particulate Matter (PM-10) Air Quality Improvement Plan is inadequate. This finding is based on the exceedences of the PM10 National Ambient Air Quality Standards recorded in December 1999, and the need to re-visit the planning effort for the Portneuf Valley PM10 nonattainment area. This finding will also be announced on EPA's conformity website: http://www.epa.gov/oms/traq, (once there, click on the “Conformity” button, then look for “Adequacy Review of SIP Submissions for Conformity”).

Transportation conformity is required by section 176(c) of the Clean Air Act. EPA's conformity rule requires that transportation plans, programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review.

We've described our process for determining the adequacy of submitted SIP budgets in guidance (May 14, 1999 memo titled “Conformity Guidance on Implementation of March 2, 1999 Conformity Court Decision”). We followed this guidance in making our adequacy determination.

Authority: 42 U.S.C. 7401-7671 q.

Dated: July 18, 2000.
Chuck Findley,
Acting Regional Administrator, Region 10.

[FR Doc. 00-19120 Filed 7-27-00; 8:45 am]

BILLING CODE 6560-50-P